FEDERAL COMMUNICATIONS COMMISSION

47 CFR Part 73

[DA 01-2476, MM Docket No. 01-171, RM-10158]

Television Broadcast Service; Destin, FL

AGENCY: Federal Communications Commission.

ACTION: Final rule.

SUMMARY: The Commission, at the request of Kaleidoscope Partners, six mutually-exclusive applicants for vacant NTSC channel 64, Destin, Florida, substitutes channel 48 for channel 64 at Destin. See 66 FR 40960, August 6, 2001. TV channel 48 can be allotted to Destin, Florida, with a zero offset in compliance with the minimum distance separation requirements of Sections 73.610 and 73.698 of the Commission's Rules. The coordinates for channel 48 at Destin are 30-30-52 N. and 86-13-12 W.

With is action, this proceeding is terminated.

DATES: Effective December 13, 2001.

FOR FURTHER INFORMATION CONTACT: Pam Blumenthal, Mass Media Bureau, (202) 418-1600.

SUPPLEMENTARY INFORMATION: This is a synopsis of the Commission's Report and Order, MM Docket No. 01-171, adopted October 26, 2001, and released October 29, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television broadcasting.

Part 73 of Title 47 of the Code of Federal Regulations is amended as follows:

PART 73—[AMENDED]

1. The authority citation for Part 73 continues to read as follows:

Authority: 47 U.S.C. 154, 303, 334, 336.

§ 73.606 [Amended]

2. Section 73.606(b), the Table of Television Allotments under Florida, is amended by removing TV channel 64 and adding TV channel 48 at Destin.

Federal Communications Commission.
Barbara A. Kreisman,
Chief, Video Services Division, Mass Media Bureau.

[FR Doc. 01-27639 Filed 11-2-01; 8:45 am]

BILLING CODE 6712-01-P